DEPARTMENT OF TRANSPORTATION

Federal Highway Administration

Notice To Rescind a Notice of Intent To Prepare an Environmental Impact Statement (EIS): State Route 71, South Knoxville Boulevard (James White Parkway), From Governor John Sevier Highway (State Route 168) to Moody Avenue, Knox County, Tennessee

AGENCY: Federal Highway Administration (FHWA), DOT.

ACTION: Notice to Rescind a Notice of Intent to prepare an Environmental Impact Statement (EIS).

SUMMARY: The Federal Highway Administration (FHWA) is issuing this notice to advise the public that the Notice of Intent published on May 1, 2007 to prepare an EIS for the proposed State Route 71, South Knoxville Boulevard (James White Parkway), from Governor John Sevier Highway (State Route 168) to Moody Avenue, Knox County, Tennessee, is being rescinded.

FOR FURTHER INFORMATION CONTACT: Ms. Theresa Claxton, Planning and Program Management Team Leader, Federal Highway Administration—Tennessee Division Office, 404 BNA Drive, Suite 508, Nashville, TN 37217. 615-781-5770.

SUPPLEMENTARY INFORMATION: The FHWA, in cooperation with the Tennessee Department of Transportation, is rescinding the notice of intent to prepare an EIS for the proposed State Route 71, South Knoxville Boulevard (James White Parkway) from near the existing Chapman Highway/Governor John Sevier Highway interchange to Moody Avenue. The proposed project was approximately 5 miles in length.

The FHWA approved the Draft EIS (DEIS) on September 28, 2012. The project as described in the DEIS was to provide an efficient and safe transportation facility that would enhance transportation service by improving access in the South Knoxville area and help relieve traffic congestion on Chapman Highway. During the DEIS process, TDOT conducted public involvement and agency coordination, developed a purpose and need for the project, and developed preliminary alternatives. The preliminary alternatives included a No-Build alternative, and three build alternatives on new location east of the Chapman Highway/Governor John Sevier Highway interchange and extending north westward to the existing State Route 71, South Knoxville Boulevard (James White Parkway) terminus at Moody Avenue.

After consideration of public comments, the Knoxville Regional Transportation Planning Organization (TPO) removed the project from their draft Fiscal Year (FY) 2014-2017 Transportation Improvement Program (TIP) in August of 2013. Subsequently, the FY 2014-2017 Knoxville TIP was adopted by the TPO Executive Board on October 16, 2013, and did not include the State Route 71 project. Based on the Knoxville Regional TPO's intent to not advance the State Route 71 project, TDOT is terminating future development of the EIS.

Comments and questions concerning the proposed action should be directed to FHWA at the address provided above.

(Catalog of Federal Domestic Assistance Program Number 20.205, Highway Planning and Construction. The regulations implementing Executive Order 12372 regarding intergovernmental consultation on Federal programs and activities apply to this proposed program.)

Theresa Claxton,
Planning and Program Mgmt. Team Leader, Nashville, TN.

[FR Doc. 2013-25313 Filed 10-25-13; 8:45 am]

BILLING CODE P